INTERNATIONAL TRADE COMMISSION

[Investigation Nos. 701-TA-556 and 731-TA-1311 (Review)]

Truck and Bus Tires From China

Determinations

On the basis of the record ¹ developed in the subject five-year reviews, the United States International Trade Commission (“Commission”) determines, pursuant to the Tariff Act of 1930 (“the Act”), that revocation of the antidumping and countervailing duty orders on truck and bus tires from China would be likely to lead to continuation or recurrence of material injury to an industry in the United States within a reasonably foreseeable time.²

¹ The record is defined in § 207.2(f) of the Commission's Rules of Practice and Procedure (19 CFR 207.2(f)).

² Commissioner David S. Johanson dissented.

Background

The Commission instituted these reviews on January 2, 2024 (89 FR 93) and determined on April 8, 2024 that it would conduct expedited reviews. (89 FR 45676, May 23, 2024).

The Commission made these determinations pursuant to section 751(c) of the Act (19 U.S.C. 1675(c)). It completed and filed its determinations in these reviews on August 16, 2024. The views of the Commission are contained in USITC Publication 5535 (August 2024), entitled Truck and Bus Tires from China: Investigation Nos. 701-TA-556 and 731-TA-1311 (Review).

By order of the Commission.
Issued: August 16, 2024.
Susan Orndoff,
Supervisory Attorney.

[FR Doc. 2024-18753 Filed 8-20-24; 8:45 am]

BILLING CODE 7020-02-P